DEPARTMENT OF HEALTH AND HUMAN SERVICES

Request for Applications for a Cooperative Agreement Demonstration Project for the Medical Reserve Corps, Citizens Corps, USA Freedom Corps

AGENCY: Department of Health and Human Services, Office of the Secretary, Office of Public Health and Science, Office of the Surgeon General.

ACTION: Notice.

Authority: This program is authorized by section 301 of the Public Health Service Act, as amended, 42 U.S.C.; and, funded under Public Law 108-007.

CFDA Number: 93.008.

SUMMARY: To provide funding for a demonstration project to demonstrate approaches to establishment of community-based, citizen volunteer Medical Reserve Corps (MRC) units. Awards will provide funding to community-based organizations under the terms of cooperative agreements. The Cooperative Agreement (CA) will facilitate start-up of MRC units and provide insights into best practices in such areas as: (1) Structure and organization, (2) recruitment and verification of credentials, (3) community-level partnership building, (4) competency levels for effective action, (5) training, (6) risk assessment, and (7) strategy development and planning.

The community-based, volunteer MRC units are intended to supplement existing community emergency medical response systems as well as contribute to meeting the public health needs of the community throughout the year. MRC units are not intended to replace or substitute for local, existing emergency response systems. MRC units should help provide additional response capacity during the initial hours following an emergency before assistance from other geographic localities may arrive and, as needed, to help local authorities provide assistance to the community following an emergency in the effort to return to normalcy.

The local MRC unit is intended to provide an organized framework which will attract volunteers and provide them with planned assignments as well as skills needed to work effectively in emergency situations. An MRC unit will help to ensure that MRC volunteers are deployed locally in a manner that is fully planned and coordinated with broader emergency and medical response plans of the communities in which they are located. Moreover, the MRC unit will serve as a mechanism for helping to ensure that volunteers have appropriate credentials for assignments which they will undertake when the MRC unit is activated. The MRC unit will help facilitate not only coordinated action, but provide a greater predictability in volunteer resource capability when and where such services are needed.

The establishment of sustainable, community-based volunteer MRC units throughout the nation will help meet the goal of enabling communities in the United States to be better prepared to respond to emergencies and urgent public health needs. It is anticipated that these community-based MRC units will grow in number and in quality across the country.

The MRC demonstration project programs will be supported through the cooperative agreement mechanism. This will enable a collaborative relationship between the awardee, the local MRC unit, and the Office of the Surgeon General (OSG), Department of Health and Human Services (HHS). The OSG will coordinate, through a private sector contractor, technical assistance needed for the implementation, conduct, and assessment of program activities. The OSG will provide oversight of the program and has a senior program staff member dedicated to the continued development of the MRC initiative. The OSG has established an MRC Web site at http://www.medicalreservecorps.gov. This Web site includes a guidance document for local leaders who plan to develop and implement a local MRC initiative. This document is entitled Medical Reserve Corps—A Guide for Local Leaders.

The OSG is supporting the development of MRC units through four strategic approaches. Specifically, the Federal Government's support includes the following:

1. Limited financial support through the CA covered by this and earlier announcements (Federal Register Vol. 67, No. 139, page 47550, July 19, 2002).

2. Communication, Information and Education including the following:

• The MRC Web site at: http://www.medicalreservecorps.gov.

• The MRC guidance document on how to establish an MRC unit and related considerations. This document is entitled Medical Reserve Corps—A Guide for Local Leaders and is accessible on the MRC Web site.

• Information on the MRC Web site addressing new developments in the MRC, trends and issues, best practices, training opportunities, meetings, and more.

• MRC workshops which will, as appropriate, include MRC unit leaders and participants; state, county, and local citizen corps leaders and coordinators, health and emergency response system officials.

• Development of an MRC logo for marketing and identification purposes. Note: An award of funds under this RFA does not include any right to use the associated trademarks of the OSG relating to the MRC. Successful applicants must still execute a nonexclusive license under the terms and policies set by the OSG prior to any use of these marks.

3. Technical Assistance (TA) through the OSG's private sector contractor. TA will, as appropriate and available, be provided to eligible MRC units. Examples of TA might include advice on matters such as development of operational plans, evaluation approaches, etc.

4. Policy Analysis and Action. Issues currently being addressed include, but will not be limited to: liability, credentialing, and training standards.

Background

During his January 2002 State of the Union address, President Bush called on all Americans to dedicate at least two years—the equivalent of 4,000 hours of their time—to provide volunteer service to others. To help every American answer the call to service, the President created the USA Freedom Corps, and charged it with strengthening and expanding service opportunities for volunteers to protect our homeland, to support our communities, and to extend American compassion around the World. The USA Freedom Corps is a coordinating council, similar to the National Economic Council or National Security Council, that relies upon the Federal agencies and departments that are a part of the coordinating council to carry out policies and programs.

Simultaneously, the President also created the Citizen Corps initiative to offer Americans new opportunities to get involved in their communities through emergency preparation and response activities. The Citizen Corps initiative includes several new and existing programs that share the common goal of helping communities prevent, prepare for, and respond to crime, natural disasters, and other emergencies. The programs include: Community Emergency Response Teams (CERT), under the direction of the Federal Emergency Management Agency; Neighborhood Watch and Volunteers in Police Service, under the direction of the Department of Justice (DOJ); and, the MRC, under the broad guidance and support of the Department of Health and Human Services.

DATES: To be considered for review, applications must be received by close of business, 5 PM Eastern Daylight Savings Time, July 18, 2003 at the address indicated in the ADDRESSES section of this announcement. The submission deadline date supersedes the postmark date information as stated in the PHS-5161. Applicants that meet this deadline will receive notification that their application was received by the Office of Grants Management. Applications that do not meet the deadline will be considered late and will be returned to the applicant without comment. Applications sent via facsimile or by electronic mail will not be accepted for review.

ADDRESSES: Applications must be prepared using Form PHS 5161-1 (revised July 2000). This form is available in Adobe Acrobat format at the following Web site: http://www.cdc.gov/od/pgo/forminfo.htm. Form PHS 5161-1 includes U.S. Government Standard Form (SF) 424, the required face page for CA applications submitted for Federal assistance and SF 424 A, a budget format for non-construction projects.

Complete applications should be submitted to: Ms. Karen Campbell, Director, Office of Grants Management, Office of Public Health and Science, 1101 Wootton Parkway, Suite 550, Rockville, Maryland, 20852. Ms. Campbell can be reached by telephone at: (301) 594-0758.

FOR FURTHER INFORMATION CONTACT: Questions regarding programmatic information related to preparation of CA applications should be directed in writing to Ronald Schoenfeld, Ph.D., Acting MRC Project Officer, Office of the Surgeon General, Office of Public Health and Science, U.S. Department of Health and Human Services, Room 18-66, 5600 Fishers Lane, Rockville, MD 20857, e-mail: rschoenfeld@osophs.dhhs.gov.

Information on budget and business aspects of the application may be obtained from Ms. Karen Campbell, Director, Office of Grants Management, Office of Public Health and Science, 1101 Wootton Parkway, Suite 550, Rockville, Maryland, 20852. Ms. Campbell can be reached by telephone at: (301) 594-0758.

SUPPLEMENTARY INFORMATION:

Availability of Funds

The total amount of funds for new awards competition will be $6 million. The OSG anticipates making 120 awards of up to $50,000 to new applicant communities in fiscal year 2003. Awards will be for up to three years, with funds for years two and three subject to availability of funds and satisfactory progress of the project. The actual number and dollar amount of the awards will depend on the number of applications received as well as the number of acceptable applications that the OSG determines to fund.

Matching Requirements

The applicant is not required to match or share project costs, if an award is made.

Period of Support

The start date for the cooperative agreement will be September 30, 2003 or sooner, depending on the date of issuance of the notice of award. Support may be requested for a project period not to exceed three years. Awardees will be eligible for awards up to $50,000 total cost. Noncompeting continuation awards of up to $50,000 will be made in fiscal years 2004 and 2005, subject to satisfactory performance and the availability of funds.

Eligible Applicants

The MRC CA program applicant must be a public or private nonprofit, community-based organization. Applicants may be an entity of the local government, a local nonprofit, or a non-government organization. If a local Citizen Corps Council (CCC) meets any of these criteria, the CCC can be the applicant. Acceptable proof of non-profit status includes:

• A reference to the applicant organization's listing in the Internal Revenue Service's (IRS) most recent list of tax-exempt organizations in the IRS Code;

• A copy of a currently valid IRS tax exemption certificate;

• A statement from a State taxing body, State attorney general, or other appropriate State official certifying that the applicant organization has a non-profit status and that none of the net earnings accrue to any private shareholders or individuals;

• A certified copy of the organization's certificate of incorporation or similar document that clearly establishes non-profit status; or

• Any of the items above for a State or national parent organization and a statement signed by the parent organization that the applicant organization is a local non-profit affiliate.

Additionally, faith-based organizations that meet the definition of a private, nonprofit, community-based organization are eligible to apply under this announcement. Tribes, tribal organizations, and local affiliates of national, state-wide, or regional organizations that meet the definition of a private nonprofit, community-based organization are eligible to apply.

To ensure wide geographic distribution of local MRC units, applications will be accepted from organizations in all of the American States and Territories.

In general, only one CA will be awarded per community. If more than one application with a qualifying score is received from the same community, the OSG will contact local officials to make a determination of which application should be given priority. It is recognized, however, that a large metropolitan area may warrant the establishment of more than one MRC unit and, therefore, could receive more than one MRC CA. For communities where more than one group/organization is planning/developing a local citizen volunteer MRC unit, it is recommended that these groups work together to submit one application. For large metropolitan areas, applications should be coordinated. In such instances, however, the applicant(s) must make a convincing case that more than one MRC unit and more than one CA is essential, and that the applicant organizations have not only coordinated their planning, but also have the imprimatur of the local health and emergency response authorities.

Program Goals

The goals of the MRC demonstration project CA are to:

1. Demonstrate whether medical response capacity in communities can be strengthened through the establishment of MRC units consisting of citizen volunteers who represent a broad range of medical/health professions;

2. Demonstrate whether additional capacity can be created at the community level to deal with emergency situations which have significant consequences for the health of the population;

3. Demonstrate whether the MRC does enable current and/or retired health professionals and related support personnel in communities to obtain additional training needed to work effectively and safely during emergency situations;

4. Demonstrate whether the MRC approach does provide an organizational framework, with a command and control system, within which appropriately trained and credentialed citizen volunteers can put their skills in health and medicine to use effectively (including prearranged assignments) when there is an emergency;

5. Demonstrate whether the MRC approach facilitates coordination of local citizen volunteer services in health/medicine with other response programs of the community/county/state during an emergency;

6. Demonstrate whether the MRC approach does provide cadres of health professionals, from within their home communities, who contribute to the resolution of public health problems and needs throughout the year; and

7. Demonstrate whether the MRC approach is sustainable beyond the CA funding period.

Project Requirements

MRC units should: (1) Be comprised of citizen volunteers from within the community, including the immediate surrounding area; (2) have an organizational framework with a command and control system and have operational policies and procedures; (3) have a plan of action that is consistent with the risks and vulnerabilities of the community; (4) be fully coordinated and appropriately integrated into the existing emergency planning and response programs of the community; (5) develop strategies for activation of the local MRC unit(s), training of MRC unit members to achieve needed competency standards, building working relationships/partnerships within the community, communications and logistics during emergencies, and practicing/drilling before emergencies occur; (6) develop plans for additional functions, beyond emergency response, to promote public health in the community; and (7) have a plan for sustaining the MRC unit after federal funding stops.

Application Requirements

In addition to the eligibility criteria cited above and use of the form PHS 5161-1 (revised July 2000), successful candidates will address the following criteria in the narrative of their applications and provide the noted documentation:

• Documentation that the applicant is a unit of local government or community-based, nonprofit organization;

• Established leadership structure for the MRC unit;

• Draft action plan, including initial measurable milestones, for establishment of a citizen volunteer MRC unit, including goals, objectives, and time lines;

• Documentation of the existence of a planning body for the MRC, including the name of the chair or lead organization, and the principals of the organization;

• Specification of any arrangements or agreements with other local public or private organizations [e.g., Citizen Corps Council, Mayor's office, City Council, County Commission, County Chief Executive, Fire Department, Department of Health, Chief of Emergency Response for the Community, community hospital(s), Red Cross, local medical society and/or other health professions organizations, local-based government hospitals (VA, Indian Health Service), service organizations] for the purposes of planning, establishing, and utilization of a local MRC unit(s);

• Demonstration of linkages with and/or understanding of existing emergency medical response entities in the community (e.g., minutes of a planning meeting in which there was substantive involvement of other key community stakeholders, including NGOs);

• Demonstration of a linkage with local government health and emergency response authorities;

• A proposed budget which is consistent with the approved types of expenditures set forth below;

• Other letter(s) of support are optional.

Plan for sustaining the MRC unit after federal funding stops.

Use of CA Funds

Applicants may request funds for the following types of allowable expenses, subject to Federal Government regulations regarding non-allowable expenses in Federal assistance programs:

1. Organizing an MRC unit, including establishment of a leadership and management structure;

2. Implementation of mechanisms to assure appropriate integration and coordination with existing local emergency response and health assets and capabilities;

3. Recruiting volunteers for the MRC unit;

4. Assessing the community's risks and vulnerabilities;

5. Development of plans to develop, organize and mobilize the MRC unit in response not only to urgent needs but also to address other public health needs in the community;

6. Training for leadership and preparedness; and

7. Training in specific skills.

Review of Applications

Applications will be screened upon receipt. Those that are judged to be incomplete, non-conforming to the announcement, or arrive after the deadline will be returned without review or comment. Applications will be reviewed for conformity with the applicant eligibility criteria. Applications will be considered non-conforming and returned unread if the budget request exceeds the amount stated in the “Availability of Funds” section of this announcement, or exceeds the page limitations as stated in this section, “Review of Applications.” Similarly, an application will be considered non-conforming if it requests funds in excess of the length of the projects funded years as stated in “Period of Support” section of this announcement. Accepted applications will be objectively reviewed for technical merit in accordance with HHS policies.

Applications will be evaluated by an objective review panel composed of experts in the fields of emergency medical response, medicine, public health, program management, community service delivery, and community leadership development. Consideration for award will be given to applicants that best demonstrate progress toward establishment of a local citizen volunteer MRC unit. Additionally, applications that best demonstrate the development of plausible strategies, including a time line for organizing, recruitment, and making operational a citizen volunteer MRC unit that is linked to other community-based programs for emergency response will rank more highly than those applications which do not. Applicants which have a linkage or plan a linkage with the community's Citizen Corps Council (if one has been established) should address that point, as applicable and appropriate.

Organization of Application

Applicants are required to submit: (1) an original ink-signed (blue ink in order to be distinguished from a copier product) and dated application; and (2) two photocopies. All pages must be numbered clearly and sequentially beginning with the Project Profile. The application must be typed double-spaced on one side of plain 8½″ x 11″ white paper, using at least a 12 point font, and contain 1″ margins all around.

The Project Summary and Project Narrative must not exceed a total of 20 double-spaced pages, excluding any appendices. The original and each copy must be stapled. An outline for the minimum information to be included in the “Project Narrative” section and related appendices is presented below.

I. Background (location, responsible organization/body, linkages within community)

II. Objectives

III. Summary of existing relevant community resources

IV. Organization structure, local MRC initiative leadership and key staff (with biographical sketches)

V. Strategy/plans with time line (can be in sequenced, bullet form)

VI. Summary of community partnerships and linkages developed/being developed

VII. Evaluation—how progress will be measured

VIII. Statement of willingness to contribute written information on local MRC unit experiences, particularly what has worked well and lessons learned, to the OSG for sharing with other communities establishing MRC units.

IX. Plan for sustaining the MRC unit in the years after federal funding stops.

Application Review Criteria

The technical review of applications will consider the following factors:

Factor 1: Implementation Plan—45 points

This section should discuss:

1. Brief summary of existing community resources and linkages to deliver coordinated emergency medical response services in a large scale (for the locality) emergency.

2. The role the MRC unit will most likely play in relationship to existing services, including local health department, fire department, community hospital(s), Red Cross and other NGOs; and, if an officially recognized Citizen Corps Council (CCC) has been established in the community, the nature of any linkage to the CCC.

3. The proposed plan and time line for establishment of an MRC unit, ranging from establishment of a planning/steering group, organizational meetings, goals and objectives, development of organizational structure, policies and procedures, recruitment, liaison and partnership building, training, etc.

Although components of an MRC unit do not necessarily have to be in place at the time the application is submitted, the applicant must discuss/describe the resources available to support these components and plans for phasing in the components of the action plan and the relationship of the plans to existing programs/institutions in the community/county/area.

Factor 2: Management Plan—20 points

Applicant organization's capability to manage the project as determined by the availability and qualifications of the proposed staff (may be either volunteer or hired). Applicant organization's listing of partners in the establishment and utilization of the citizen volunteer MRC unit and their relationships and the mechanism(s) that will be utilized to convene the partners for constructive planning and implementation.

Factor 3: Evaluation Plan—10 points

A clear but brief statement of program goals and how progress toward meeting those goals will be assessed.

Factor 4: Background—10 points

Adequacy of demonstrated knowledge of emergency medical response/care systems, and utilization of volunteers.

Factor 5: Supporting Documentation—5 points

Adequacy of supporting documentation that the MRC unit planning group is appropriately connected to local government entities (e.g., Mayor's office, City Council, County Executive, County Council, Fire Department, Department of Emergency Planning and Response) and appropriate local organizations such as the Citizen Corps Council (if one has been officially established), American Red Cross, civic organizations (e.g., Kiwanis, Rotary, Siroptomist, Lions, Clubs); veterans organizations, health professions organizations, and faith-based groups, etc.

Factor 6: Statement of Willingness to Share Information with OSG—5 points

A clear statement that the CA recipient is willing to contribute information on the progress, lessons learned, best practices, etc. to the OSG at 6-month intervals.

Factor 7: Sustainability Plan—5 points

This area should address, in as much detail as possible, the applicant's plan for how the MRC unit will continue to exist and thrive in the years beyond the applicant's funding eligibility (Year 4 and beyond).

Reporting and Other Requirements

General Reporting Requirements: A CA recipient under this notice will submit: (1) A six-month progress report to the OSG: (2) an annual Financial Status Report; and (3) a final progress report and Financial Status Report in the format established by the OSG, in accordance with provisions of the general regulations which apply under 45 CFR Part 74.51—74.52, with the exception of State and local governments to which CFR Part 92, Subpart C reporting requirements apply.

The OSG has established the following requirements for inclusion in the annual and/or final report(s):

• A summary of the status of development of the MRC unit (not to exceed 5 pages in the main report), including the major activities and accomplishments, objectives met and not met, lessons learned, and an evaluation plan update;

• Copy of organizational chart and brief narrative description of the structure of the MRC unit, including its chain-of-command;

• Copy of policies and procedures (e.g., scope of operations, criteria for mobilization and demobilization, recruitment, and verification of credentials) for the local MRC unit;

• Copy of risk/vulnerability assessment (a copy of such an assessment prepared by other entities in the community and to which the MRC unit is linked may be submitted);

• Resource availability and needs assessment; and

• Copy of database of appropriately credentialed volunteers who are committed to participate as members of the MRC unit.

Public Health System Reporting Requirements

This program is subject to the Public Health Systems Reporting Requirements. Under these requirements, a community-based, non-governmental applicant must prepare and submit a Public Health System Impact Statement (PHSIS). The PHSIS is intended to provide information to state and local health officials to keep them apprised on proposed health services CA applications submitted by community-based non-governmental organizations within their jurisdictions.

Community-based, non-governmental applicants are required to submit, no later than the Federal due date for receipt of the application, the following information to the head of the appropriate State and local health agencies in the area(s) to be impacted: (a) A copy of the face page of the application (SF 424); and (b) a summary of the project (PHSIS), not to exceed one page, which provides: (1) A description of the population to be served; (2) a summary of the services to be provided; and (3) a description of the coordination planned with state or local health agencies. Copies of the letters forwarding the PHSIS to these authorities must be contained in the application materials submitted to the OSG.

State Reviews: This program is subject to the requirements of Executive Order 12372, which allows states the option of setting up a system for reviewing applications from within their states for assistance under certain Federal programs.

Because of the importance of coordination of emergency medical response and public health improvement at the state and community levels, the OSG, for purposes of this announcement, is establishing a special mechanism to enable designated state points of contact to provide comments in an orderly and uniform way to the OSG for purposes of according scores to applications from their respective states for applications submitted under this notice. The application kit available under this notice will contain a list of state points of contact. Applicants (other than federally recognized Indian tribes) should contact their state contact point as early as possible to alert them to the prospective applications and receive any necessary instructions on the state process. The due date for state process recommendations is 15 working days after the application deadline established by the OMH Grants Management Officer.

The OSG does not guarantee that it will accommodate or explain its responses to state process recommendations received after that date.

Provision of Smoke-Free Workplaces and Non-use of Tobacco Products by Recipients of PHS CA.

HHS strongly encourages all CA recipients to provide a smoke-free workplace and to promote the non-use of all tobacco products. In addition, Public Law 103-227, the Pro-Children Act of 1994, prohibits smoking in certain facilities (or in some cases, any portion of a facility) in which regular or routine education, library, day care, health care, or early childhood development services are provided to children.

Definitions

For the purposes of this CA program, the following definitions are provided:

Citizen Corps Council: A Citizen Corps Council established at the community or county level within the overall framework of the Citizen Corps, USA Freedom Corps. The Citizen Corps Council structure falls within the overall purview of FEMA.

Cooperative Agreement (CA): An award instrument of financial assistance where “substantial involvement” is anticipated between the HHS awarding agency and the recipient during performance of the contemplated project or activity. “Substantial involvement” means that the recipient can expect Federal programmatic collaboration or participation in managing the award.

Community-based: The locus of control and decision making powers are located at the community level, representing the service area of the community or a significant segment of the community.

Non-governmental organization (NGO): A public or private institution of higher education; a public or private hospital; an Indian tribe or Indian tribal organization which is not a Federally-recognized Indian tribal government; and a quasi-public or private gateway.html organization or commercial organization. The term does not include a State or local government, a Federally recognized Indian Tribal Government, an individual, a Federal agency, a foreign or international governmental organization (such as an agency of the United Nations), or a government-owned contractor-operated facility or research center providing continued support for mission oriented large scale programs that are government-owned or controlled or are developed as a Federally Funded Research and Development Center under Office of Federal Procurement Policy letter 84-1.

Office of the Surgeon General (OSG): The Office of the Surgeon General, Office of Public Health and Science, Office of the Secretary, Department of Health and Human Services, which is the designated lead agency for the MRC program.

Dated: May 28, 2003.
Richard H. Carmona,
Surgeon General and Acting Assistant Secretary for Health.

[FR Doc. 03-13799 Filed 6-2-03; 8:45 am]

BILLING CODE 4150-28-P